DEPARTMENT OF THE INTERIOR

National Park Service

[NPS-WASO-NRNHL-DTS#-SG100008654; PPWOCRADI0, PCU00RP14.R50000]

National Register of Historic Places; Notification of Pending Nominations and Related Actions

AGENCY: National Park Service, Interior.

ACTION: Notice.

SUMMARY: The National Park Service is soliciting electronic comments on the significance of properties nominated before January 14, 2023, for listing or related actions in the National Register of Historic Places.

DATES: Comments should be submitted electronically by February 10, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before January 14, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations Submitted by State or Tribal Historic Preservation Officers

Key: State, County, Property Name, Multiple Name (if applicable), Address/Boundary, City, Vicinity, Reference Number.

MARYLAND

Baltimore Independent City

Ambassador Theater, 4604 Liberty Heights Ave., Baltimore, SG100008654

Howard County

Granite Park, 7608 Murray Hill Rd., Columbia vicinity, SG100008653

MISSISSIPPI

Pontotoc County

Mayfield, M.B., House, 423 Main St., Ecru, SG100008638

NEW YORK

Rensselaer County

Central Lansingburgh Historic District, 1st Ave., 110th and 111th Sts., east alleys of 5th and 6th Aves., 117th and 120th Sts., east and west alleys of 2nd Ave., Troy, SG100008651

OREGON

Linn County

Riverside Community Hall, 35293 Riverside Dr. SW, Albany, SG100008640

PENNSYLVANIA

Bucks County

Lehigh Valley Transit Station, 513 West Walnut St., Perkasie, SG100008645

Philadelphia County

Blumenthal Brothers Chocolate Factory, 2201-21 Margaret St., Philadelphia, SG100008646

Zion Baptist Church and Educational Annex, 3600 and 3601-07 North Broad St., Philadelphia, SG100008647

VIRGINIA

Lexington Independent City

Boude-Deaver House, 406 South Main St., Lexington, SG100008650

Loudoun County

Union Street School, 20 Union St., Leesburg, SG100008649

Roanoke Independent City

Colony House Motor Lodge, 3560 Franklin Rd., Roanoke, SG100008648

Additional documentation has been received for the following resources:

ALABAMA

Mobile County

Automobile Alley Historic District (Additional Documentation), 156-157 North Cedar, 108 North Dearborn, 100-101 North Franklin, 156 North Hamilton, 163 North Lawrence, and 453-701 St. Anthony Sts., Mobile, AD16000400

ARIZONA

Pima County

Armory Park Historic Residential District (Additional Documentation), 803-807 South 4th Ave. (rear), Tucson, AD76000378

NEW YORK

Hamilton County

Blue Mountain House Annex (Additional Documentation), NY 30, Blue Mountain, AD77000941

PENNSYLVANIA

Philadelphia County

First Unitarian Church (Additional Documentation), 2121 Chestnut St., Philadelphia, AD71000724

Authority: Section 60.13 of 36 CFR part 60.

Dated: January 19, 2023.
Sherry A. Frear,
Chief, National Register of Historic Places/National Historic Landmarks Program.

[FR Doc. 2023-01591 Filed 1-25-23; 8:45 am]

BILLING CODE 4312-52-P